DEPARTMENT OF COMMERCE

National Oceanic and Atmospheric Administration

50 CFR Part 622

[Docket No. 230427-0115]

RTID 0648-XF377

Reef Fish Fishery of the Gulf of America; Partial Holdback of Commercial Quota for the Deep-Water Grouper Complex

AGENCY: National Marine Fisheries Service (NMFS), National Oceanic and Atmospheric Administration (NOAA), Commerce.

ACTION: Temporary rule; commercial quota holdback.

SUMMARY: NMFS issues this temporary rule to withhold a portion of the commercial allocation of deep-water grouper (DWG) for the 2026 fishing year in anticipation of the upcoming rulemaking for Amendment 58B to the Fishery Management Plan for the Reef Fish Resources of the Gulf (FMP). If approved and implemented, Amendment 58B would, in part, end overfishing of yellowedge grouper and reduce the DWG commercial annual catch limit (ACL) and commercial quota. This temporary rule will withhold a portion of the distribution of DWG individual fishing quota (IFQ) allocation on January 1, 2026, to shareholders in the Groupers and Tilefishes IFQ (GT-IFQ) program in the amount equal to the anticipated reduction in the commercial quota.

DATES: This temporary rule is effective from January 1, 2026, until June 1, 2026.

FOR FURTHER INFORMATION CONTACT: Dan Luers, NMFS Southeast Regional Office, telephone: 727-824-5305, email: daniel.luers@noaa.gov.

SUPPLEMENTARY INFORMATION: The reef fish fishery in the Gulf of America (Gulf) includes DWG and is managed under the FMP. The FMP was prepared by the Gulf Fishery Management Council (Council), approved by the Secretary of Commerce, and is implemented by NMFS through regulations at 50 CFR part 622 under the authority of the Magnuson-Stevens Fishery Conservation and Management Act (Magnuson-Stevens Act).

All catch limits in this temporary rule are in pounds (lb) gutted weight.

In the Gulf, the DWG complex consists of yellowedge grouper, warsaw grouper, snowy grouper, and speckled hind. Commercial harvest of the DWG species occurs under the GT-IFQ program and landings are managed to the commercial quota, which is reduced from the commercial ACL. The current DWG commercial ACL is 1,070,000 lb (485,000 kg) and the commercial quota is 1,024,000 lb (464,000 kg), which is 4 percent below the commercial ACL. The buffer between the commercial ACL and the commercial quota is in place to account for scientific uncertainty with the level of discards and to allow for the IFQ flexibility measures under which some species in the shallow-water grouper complex can be landed under the DWG quota.

In 2023, the Southeast Data, Assessment, and Review 85 (SEDAR 85) assessed Gulf yellowedge grouper and indicated that while the stock was not overfished, it was experiencing overfishing and therefore harvest must be reduced. The Council's Scientific and Statistical Committee (SSC) accepted SEDAR 85 as consistent with the best scientific information available and recommended updated status determination criteria and catch levels for yellowedge grouper. The Council's SSC then evaluated the catch limits for the remaining species in the DWG complex and recommended that their catch levels also be reduced. As a result of the SSC recommendations, the Council initiated work on Amendment 58B to, among other measures, end overfishing of yellowedge grouper and reduce the harvest of the other species in the DWG complex. The Council approved Amendment 58B at its August 2025 meeting and is preparing to submit the amendment to NMFS for review. If approved, NMFS expects any final rule implementing Amendment 58B to be effective no later than June 1, 2026. Consistent with the SSC's recommendations, Amendment 58B would reduce the total allowable harvest of DWG. For the commercial sector, Amendment 58B would reduce the commercial ACL from 1,070,000 lb (485,000 kg) to 498,358 lb (226,051 kg) and the commercial quota from 1,024,000 lb (464,000 kg) to 478,424 lb (217,009 kg).

Under the GT-IFQ program, annual quota is distributed to IFQ shareholders as allocation (including multi-use allocation) on January 1, and most IFQ program participants begin to use or transfer their allocation early in each year. After shareholders begin transferring or landing allocation, NMFS is not able to retroactively withdraw allocation from shareholder accounts if a commercial quota decrease becomes effective after the beginning of the fishing year. Regulations at 50 CFR 622.22(a)(4), require NMFS to withhold distribution of IFQ allocation on January 1 in the amount equal to an expected reduction in the commercial quota. Accordingly, through this temporary rule NMFS withholds distribution of a portion of the 2026 commercial quota of DWG equal to the anticipated reduction recommended by the Council in Amendment 58B.

NMFS will distribute the available DWG allocation of 478,424 lb (217,009 kg), on January 1, 2026. If NMFS does not implement Amendment 58B, including the revised commercial quota, by June 1, 2026, then NMFS will distribute the withheld allocation back to the current shareholders, as determined by the shares held on the same date that NMFS distributes the withheld IFQ quota.

Classification

NMFS issues this action pursuant to section 305(d) of the Magnuson-Stevens Act. This action is taken under 50 CFR 622.22(a)(4), which was issued pursuant to section 304(b) of the Magnuson-Stevens Act, and is exempt from review under Executive Order 12866, and other applicable laws.

Pursuant to 5 U.S.C. 553(b)(B), there is good cause to waive prior notice and an opportunity for public comment on this action, as notice and comment is unnecessary and contrary to the public interest. Such procedures are unnecessary because the regulation at 50 CFR 622.22(a)(4) has already been subject to notice and public comment, and the public is aware of the expected quota reduction included in Amendment 58B. Therefore, all that remains is to notify the public that a portion of the commercial DWG allocation in 2026 will be withheld to allow for the implementation of the Amendment 58B in 2026, if approved. Such procedures are contrary to the public interest because notice and comment would require delaying the reduction in DWG harvest as specified in Amendment 58B until 2027. If NMFS does not withhold the necessary DWG allocation, shareholders can begin transferring or landing allocation on January 1, 2026, and NMFS would not be able to retroactively withdraw allocation from shareholder accounts. Delaying implementation of Amendment 58B until 2027 could allow for continued overfishing of yellowedge grouper and harvest of other DWG species in excess of the level supported by the best scientific information available and recommended by the Council's SSC.

For the aforementioned reasons, the NMFS Assistant Administrator also finds good cause to waive the 30-day delay in the effectiveness of this action under 5 U.S.C. 1801 et seq.

Authority: 16 U.S.C. 1801 et seq.

Dated: December 19, 2025.
Kelly Denit,
Director, Office of Sustainable Fisheries, National Marine Fisheries Service.

[FR Doc. 2025-23747 Filed 12-22-25; 8:45 am]

BILLING CODE 3510-22-P